DEPARTMENT OF LABOR

Employment and Training Administration

[TA-W-58,629]

Consolidated Container Company Beverage and Industrial Container Division, Leetsdale, PA; Notice of Revised Determination on Reconsideration

By application of March 13, 2006, the United Electrical, Radio & Machine Workers of America, Local 690 requested administrative reconsideration regarding the Department's Negative Determination Regarding Eligibility to Apply for Worker Adjustment Assistance, applicable to the workers of the subject firm.

The initial investigation resulted in a negative determination issued on February 15, 2006, was based on the finding that imports of polycarbonate bottles did not contribute importantly to worker separations at the subject plant and that there was no shift to a foreign country. The denial notice was published in the Federal Register on March 10, 2006 (71 FR 12396).

To support the request for reconsideration, the petitioner supplied additional information to supplement that which was gathered during the initial investigation. Upon further review of the information and a contact with the company official, it was revealed that the subject firm shifted two production lines of the polycarbonate bottles to Canada during the relevant period and that this shift contributed to the layoffs at the subject firm.

In accordance with section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of section 246 have been met.

A significant number of workers at the firm are age 50 or over and possess skills that are not easily transferable. Competitive conditions within the industry are adverse.

Conclusion

After careful review of the facts obtained in the investigation, I determine that there was a shift in production from the workers' firm or subdivision to Canada of articles that are like or directly competitive with those produced by the subject firm or subdivision. In accordance with the provisions of the Act, I make the following certification:

All workers of Consolidated Container Company, Beverage & Industrial Container Division, Leetsdale, Pennsylvania who became totally or partially separated from employment on or after January 11, 2005 through two years from the date of certification are eligible to apply for adjustment assistance under Section 223 of the Trade Act of 1974 and are eligible to apply for alternative trade adjustment assistance under Section 246 of the Trade Act of 1974.

Signed in Washington, DC this 12th day of May 2006.
Elliott S. Kushner,
Certifying Officer, Division of Trade Adjustment Assistance.

[FR Doc. E6-7938 Filed 5-23-06; 8:45 am]

BILLING CODE 4510-30-P